DEPARTMENT OF COMMERCE

International Trade Administration

[A-489-850]

Aluminum Extrusions From the Republic of Türkiye: Amended Preliminary Determination of the Less-Than-Fair-Value Investigation

AGENCY: Enforcement and Compliance, International Trade Administration, Department of Commerce.

SUMMARY: The U.S. Department of Commerce (Commerce) is amending its preliminary affirmative determination in the less-than-fair-value (LTFV) investigation of aluminum extrusions from the Republic of Türkiye (Türkiye) to correct for significant ministerial errors. The period of investigation is October 1, 2022, through September 30, 2023.

DATES: Applicable June 5, 2024.

FOR FURTHER INFORMATION CONTACT: Taylor Hatley, AD/CVD Operations, Office II, Enforcement and Compliance, International Trade Administration, U.S. Department of Commerce, 1401 Constitution Avenue NW, Washington, DC 20230; telephone: (202) 482-4886.

SUPPLEMENTARY INFORMATION:

Background

On May 7, 2024, Commerce published in the Federal Register its preliminary affirmative determination in the LTFV investigation of aluminum extrusions from Türkiye.¹ On May 7 and 9, 2024, respectively, mandatory respondents, Erdoganlar Aluminyum San. ve Tic. A.S. (Erdoganlar) and Sistem Aluminyum Sanayi ve Ticaret A.S. (Sistem) timely alleged that Commerce made significant ministerial errors in calculating their estimated weighted-average dumping margins.²

¹ See Aluminum Extrusions from the Republic of Türkiye: Preliminary Affirmative Determination of Sales at Less Than Fair Value, Postponement of Final Determination, and Extension of Provisional Measures, 89 FR 38046 (May 7, 2024) (Preliminary Determination), and accompanying Preliminary Decision Memorandum.

² See Erdoganlar's Letter, “Erdoganlar Aluminyum San. ve Tic. A.S.'s Allegation of Significant Ministerial Error,” dated May 7, 2024; see also Sistem's Letter, “Sistem Aluminyum Sanayi ve Ticaret A.S.' Ministerial Error Allegations,” dated May 9, 2024.

Scope of the Investigation

The products covered by this investigation are aluminum extrusions from Türkiye. For a complete description of the scope of this investigation, see the Preliminary Determination.³

³ See Preliminary Determination, 89 FR at 38049-52.

Legal Framework

A ministerial error is defined as including “errors in addition, subtraction, or other arithmetic function, clerical error resulting from inaccurate copying, duplication, or the like, and any other similar type of unintentional error which {Commerce} considers ministerial.” ⁴ A ministerial error is considered to be “significant” if its correction, either singly or in combination with other errors, would result in: (1) a change of at least five absolute percentage points in, but not less than 25 percent of, the weighted-average dumping margin calculated in the preliminary determination; or (2) a difference between a weighted-average dumping margin of zero (or de minimis) and a weighted-average dumping margin of greater than de minimis or vice versa.⁵ Pursuant to 19 CFR 351.224(e), Commerce “will analyze any comments received and, if appropriate, correct any significant ministerial error by amending the preliminary determination.”

⁴ See section 735(e) of the Tariff Act of 1930, as amended (the Act); see also 19 CFR 351.224(f).

⁵ See 19 CFR 351.224(g).

Analysis of Significant Ministerial Errors

In the Preliminary Determination, Commerce made significant ministerial errors within the meaning of section 735(e) of the Act and 19 CFR 351.224(f) and (g)(1) in calculating the estimated weighted-average dumping margins for Erdoganlar and Sistem. Accordingly, pursuant to 19 CFR 351.224(e), Commerce is amending its Preliminary Determination to correct for these significant ministerial errors by revising the rates for Erdoganlar, Sistem, the companies assigned a rate based on adverse facts available (AFA),⁶ and all other producers and/or exporters.⁷ For a detailed discussion of the alleged ministerial errors, as well as Commerce's analysis, see the Ministerial Error Memorandum.⁸

⁶ See Memorandum, “Less-Than-Fair-Value Investigation of Aluminum Extrusions from the Republic of Türkiye: Allegations of Ministerial Errors in the Preliminary Determination,” dated concurrently with this notice (Ministerial Error Memorandum), at 4.

⁷ See Preliminary Determination, 89 FR at 38047 (“{The all-others rate} shall be an amount equal to the weighted average of the estimated weighted-average dumping margins established for exporters and producers individually investigated”).

⁸ See Ministerial Error Memorandum.

Amended Preliminary Determination

As a result of correcting these significant ministerial errors, Commerce determines the following estimated weighted-average dumping margins exist:

Exporter/producer | Estimated weighted-average dumping margin (percent) | Cash deposit rate (adjusted for subsidy offset(s)) (percent)
Erdoganlar Aluminyum San. ve Tic. A.S | 10.11 | 9.91
Sistem Aluminyum Sanayi ve Ticaret A.S | 19.86 | 19.86
Alkor Aluminyum Enerji Insaat Sanayi ve Ticaret Anonim Sirketi | * 48.43 | 37.26
Astas Aluminyum San ve Tic A.S | * 48.43 | 37.26
Ayde Aluminyum LTD. STI | * 48.43 | 37.26
Burak Aluminyum San | * 48.43 | 37.26
P.M.S. Aluminyum Sanayi ve Ticaret A.S | * 48.43 | 37.26
Tuna Aluminium Ltd | * 48.43 | 37.26
Uluson Aluminum | * 48.43 | 37.26
All Others | 12.98 | 12.78
* Rates based on AFA.

Disclosure

We intend to disclose the calculations performed for this amended preliminary determination to parties within five days after public announcement or, if there is no public announcement, within five days of the date of publication of this notice, in accordance with 19 CFR 351.224(b).

Amended Cash Deposits and Suspension of Liquidation

The collection of cash deposits and suspension of liquidation will be revised according to the rates calculated in this amended preliminary determination, in accordance with section 733(d) of the Act. Because the amended rates for Erdoganlar, Sistem, the companies assigned rates based on AFA, and all other producers and/or exporters result in decreased cash deposit rates, they will be effective retroactively to May 7, 2024, the date of publication of the Preliminary Determination. We will also instruct U.S. Customs and Border Protection to issue instructions for requesting a refund of the difference between the amount of cash deposits paid as a result of the application of the Preliminary Determination rates and the amount due as a result of the amended preliminary determination rates.

U.S. International Trade Commission Notification

In accordance with section 733(f) of the Act, we will notify the U.S. International Trade Commission of our amended preliminary determination.

Notification to Interested Parties

This amended preliminary determination is issued and published pursuant to sections 733(d) and 777(i) of the Act and 19 CFR 351.224(e).

Dated: May 30, 2024.
Abdelali Elouaradia,
Deputy Assistant Secretary for Enforcement and Compliance.

[FR Doc. 2024-12345 Filed 6-4-24; 8:45 am]

BILLING CODE 3510-DS-P